DEPARTMENT OF COMMERCE

National Oceanic and Atmospheric Administration

[RTID 0648-XE356]

Takes of Marine Mammals Incidental to Specified Activities; Taking Marine Mammals Incidental to Pile Driving Training Exercises at Naval Base Ventura County, Port Hueneme

AGENCY: National Marine Fisheries Service (NMFS), National Oceanic and Atmospheric Administration (NOAA), Commerce.

ACTION: Notice; proposed issuance of an incidental harassment authorization; request for comments on proposed authorization and possible renewal.

SUMMARY: NMFS has received a request from the United States Navy (Navy) for authorization to take marine mammals, by Level B harassment only, incidental to pile driving training exercises at Naval Base Ventura County, Port Hueneme (NBVC).

NMFS previously issued an incidental harassment authorization IHA to the Navy for similar activities on April 28, 2023 (hereinafter referred to as the initial IHA); however, during the initial authorization period, only one of four planned training exercise was performed. The Navy is requesting, and NMFS is proposing to issue an IHA authorizing incidental take for an additional four training exercises. Pursuant to the Marine Mammal Protection Act (MMPA), NMFS is requesting comments on its proposal to issue an IHA to incidentally take marine mammals during the specified activities. NMFS is also requesting comments on a possible 1-year Renewal IHA that could be issued under certain circumstances and if all requirements are met, as described in Request for Public Comments at the end of this notice. NMFS will consider public comments prior to making any final decision on the issuance of the requested MMPA authorizations and agency responses will be summarized in the final notice of our decision. The Navy's activities are considered military readiness activities pursuant to the MMPA, as amended by the National Defense Authorization Act for Fiscal Year 2004 (NDAA).

DATES: Comments and information must be received no later than November 7, 2024.

ADDRESSES: Comments should be addressed to Jolie Harrison, Chief, Permits and Conservation Division, Office of Protected Resources, National Marine Fisheries Service, and should be submitted via email to ITP.tyson.moore@noaa.gov. Electronic copies of the application and supporting documents, as well as a list of the references cited in this document, may be obtained online at: https://www.fisheries.noaa.gov/permit/incidental-take-authorizations-under-marine-mammal-protection-act. In case of problems accessing these documents, please call the contact listed below.

Instructions: NMFS is not responsible for comments sent by any other method, to any other address or individual, or received after the end of the comment period. Comments, including all attachments, must not exceed a 25-megabyte file size. All comments received are a part of the public record and will generally be posted online at https://www.fisheries.noaa.gov/permit/incidental-take-authorizations-under-marine-mammal-protection-act without change. All personal identifying information (e.g., name, address) voluntarily submitted by the commenter may be publicly accessible. Do not submit confidential business information or otherwise sensitive or protected information.

FOR FURTHER INFORMATION CONTACT: Reny Tyson Moore, Office of Protected Resources, NMFS, (301) 427-8401.

SUPPLEMENTARY INFORMATION:

Background

The MMPA prohibits the “take” of marine mammals, with certain exceptions. Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, a notice of a proposed incidental take authorization may be provided to the public for review.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of such species or stocks for taking for certain subsistence uses (referred to in shorthand as “mitigation”); and requirements pertaining to the mitigation, monitoring and reporting of such takings are set forth.

The NDAA (Pub. L. 108-136) removed the “small numbers” and “specified geographical region” limitations indicated above and amended the definition of “harassment” as it applies to a “military readiness activity.” The activity for which incidental take of marine mammals is being requested addressed here qualifies as a military readiness activity.

National Environmental Policy Act

To comply with the National Environmental Policy Act of 1969 (NEPA; 42 U.S.C. 4321 et seq.) and NOAA Administrative Order (NAO) 216-6A, NMFS must review our proposed action (i.e., the issuance of a Renewal IHA) with respect to potential impacts on the human environment. This action is consistent with categories of activities identified in Categorical Exclusion B4 (incidental take authorizations with no anticipated serious injury or mortality) of the Companion Manual for NOAA Administrative Order 216-6A, which do not individually or cumulatively have the potential for significant impacts on the quality of the human environment and for which we have not identified any extraordinary circumstances that would preclude this categorical exclusion. Accordingly, NMFS has preliminarily determined that the issuance of the proposed IHA qualifies to be categorically excluded from further NEPA review.

We will review all comments submitted in response to this notification prior to concluding our NEPA process or making a final decision on the IHA request.

History of Request

On August 18, 2021, NMFS received a request from the Navy for an IHA to take marine mammals incidental to pile driving training exercises at NBVC. That application was deemed adequate and complete on January 12, 2023. NMFS published a notice of a proposed IHA and request for comments in the Federal Register on March 15, 2023 (88 FR 15956). We subsequently published the final notice of our issuance of the IHA on May 4, 2023 (88 FR 28517); the IHA was effective from May 1, 2023 through April 30, 2024. The specified activities were expected to result in the take of California sea lions (Zalophus californius) and harbor seals (Phoca vitulina richardii) by Level B harassment only. Neither the Navy nor NMFS expected serious injury or mortality to result from this activity and, therefore, an IHA was appropriate.

On February 22, 2024 NMFS received notification from the Navy that only one of four planned training exercises were completed under the initial IHA. On March 5, 2023 the Navy requested a renewal of the initial IHA; however, the Navy and NMFS deemed that it would be appropriate to issue a proposed IHA rather than undertake the renewal process given the Navy's desire to request changes to the specified activity. On May 13, 2024, the Navy submitted an application requesting that a new IHA be issued that would allow take of California sea lions and harbor seals, by Level B harassment only, incidental to four pile driving training exercises at NBVC, effective for 1 year after the date of issuance. Revised applications were received on August 6, 2024, and September 12, 2024. The application was deemed adequate and complete on September 24, 2024. Proposed changes from the initial IHA include those associated with the Navy's request, in some instances, to install and remove additional piles during the training exercises over additional days (i.e., more than were addressed in the initial IHA) due to emergent training requirements and tempo (see the Description of the Specified Activities and Anticipated Impacts section for more details). In addition, on May 3, 2024, NMFS published and solicited public comment on its draft Updated Technical Guidance (89 FR 36762), which includes updated hearing ranges and names for marine mammal hearing groups as well as updated thresholds and weighting functions to inform auditory injury estimates (i.e., for Level A harassment). To ensure take by Level A harassment is appropriately considered, and in order to support consideration of the best available science, comparative calculations using both the existing NMFS Technical Guidance (NMFS, 2018) and the NMFS Updated Technical Guidance (NMFS, 2024) have been conducted and provided for consideration of take by Level A harassment. These proposed changes do not affect the previous analyses, mitigation, and monitoring requirements, or method of take calculations, outside of the inclusion of slightly larger Level A harassment zones and shutdown zones due to the increased numbers of piles anticipated to be installed and or removed within a day, and that the proposed training exercises would be completed in 136 days instead of 96 days. In evaluating the 2024 request and to the extent deemed appropriate, NMFS relies on the information presented in notices associated with the issuance of the initial IHA (88 FR 15956, March 15, 2023; 88 FR 28517, May 4, 2023).

The Navy submitted a monitoring report on March 4, 2023, based on the work completed under the initial IHA, which confirms that the applicant implemented the required mitigation and monitoring during the initial year of the activity, and that they did not exceed the authorized levels of take under the initial IHA. These monitoring results, as well as the Navy's current request and application, are available to the public on our website: https://www.fisheries.noaa.gov/action/incidental-take-authorization-us-navy-pile-training-exercises-naval-base-ventura-county-port.

Description of the Proposed Activities and Anticipated Impacts

Overview

The primary mission of NBVC is to provide a home port and to furnish training, administrative, and logistical support for the Naval Construction Battalions. As described in the initial IHA, Naval Construction Group ONE proposed to execute pile driving training exercises at NBVC that are essential to construction battalion personnel prior to deployment. The specific components of each exercise could vary based on the specific training requirements for each battalion, but could include vibratory and impact pile driving, temporary pier construction, and subsequent removal of all installed materials. These are military readiness activities, as defined under the NDAA of Fiscal Year 2004 (Pub. L. 108-136).

Under the initial IHA, the Navy requested take by Level B harassment for California sea lions and harbor seals incidental to up to four pile driving training exercises, each of which could include installation and removal of a sheet pile wall and round pile pier. Level A harassment was not anticipated, requested, or authorized. It was estimated that each training exercise could take up to 24 days (12 days for pile installation and 12 days for pile removal), for a total of up to 96 days over the four training exercises. Due to issues with equipment, the Navy only performed one training activity for 11 days during the initial authorization period. The Navy is requesting a new IHA so that it can complete an additional four training exercises during the new IHA period. Due to emergent training requirements and tempo, the Navy is requesting, in some instances, to install and remove additional piles during the training exercises across a total of 136 days (34 active in-water pile driving per training exercise). The new IHA, if authorized, would be valid for 1 year from the date of issuance.

To support public review and comment on the IHA that NMFS is proposing to issue here, we refer to the documents related to the previously issued IHA and discuss any new or changed information here. The previous documents include the Federal Register notice of the proposed IHA (88 FR 15956, March 15, 2023), the Federal Register notice of issuance of the initial IHA (88 FR 28517, May 4, 2023), and all associated references and documents. We also refer the reader to the Navy's previous and current applications and monitoring reports which can be found at: https://www.fisheries.noaa.gov/action/incidental-take-authorization-us-navy-pile-training-exercises-naval-base-ventura-county-port.

Dates and Duration

The initial IHA considered 96 total annual days of active in-water pile installation and removal, which would be spread over four annual training exercises, each of which was estimated to last 24 days. The current request considers a total of 136 total annual days of active water in-water pile installation and removal spread over four annual training exercises (i.e., each training exercise is estimated to last up to 34 days). Each workday would occur during daylight hours, and would last approximately 8 hours, but pile installation/removal would not occur for the entire eight hours. Due to the availability of resources, requirements by NBVC for port use, and battalion training needs, it is not possible to predict the precise dates of training activities; however, no more than four separate training events would occur over the duration of the proposed 1-year IHA.

Specific Geographic Region

A detailed description of the specific geographic region for the Navy's activities is found in the Federal Register notice of the proposed IHA for the initial IHA (88 FR 15956, March 15, 2023) and associated documents (available at https://www.fisheries.noaa.gov/action/incidental-take-authorization-us-navy-pile-training-exercises-naval-base-ventura-county-port). This description remains accurate and is referenced herein.

Detailed Description of the Activity

A detailed description of the training exercise for which take is proposed here may be found in the Federal Register notices of the proposed and final IHA for the initial authorization (88 FR 15956, March 15, 2023 and 88 FR 28517, May 4, 2023, respectively), and in associated documents (available at https://www.fisheries.noaa.gov/action/incidental-take-authorization-us-navy-pile-training-exercises-naval-base-ventura-county-port). The description, including of the activities, including the types of equipment planned for use, are identical to those described in the previous notices and remains accurate with the exception of anticipated production rates, which are described in more detail below.

The Navy has requested, in some instances, to increase the number of piles that may be driven in a day due to emergent training requirements and tempo. Differences between the initial and proposed IHAs are shown in table 1. Specifically, the initial IHA considered that a total of 15 24-inch steel sheet piles, 10 16-inch timber piles, and 4 14-inch H-beam steel piles may be driven during each training exercise. The current request proposes that up to 30 24-inch steel sheet piles, 12 16-inch timber piles, and 6 14-inch H-beam steel piles may be driven during each training exercise. These changes represent a 65.5-percent increase in the total number of piles anticipated to be installed and removed each training exercise.

Anticipated production rates for installation and removal with a vibratory and or impact hammer, and how these rates compared to the initial IHA, are provided in table 1. To allow for unanticipated variation in production rates and to account for any training that is slowed or delayed due to the need to meet specific training or mitigation requirements (e.g., additional delays or shutdowns due to larger shutdown zones; see the Proposed Mitigation section of this notice for more details), the Navy has added buffer days to the total anticipated activity days proposed for the training exercises. The buffers for vibratory pile installation and removal include 12 days for 24-inch steel sheets, 3 days for 16-in round timber piles, and 3 days for 14-in steel H-piles. The buffers for impact driving include 4 days for 16-in round timber piles and 3 days for 14-in steel H-piles. With these buffer days added, the Navy anticipates that pile driving could occur on up to 34 days each training exercise, for a total of 136 days spread across the four training exercises. Buffer days were not considered in the initial IHA. The initial IHA anticipated that it could take 5 days to install and 5 days to remove the 24-inch steel sheets, 5 days to install and 5 days to remove 16-in round timber piles, and 2 days to install and 2 days to remove the 14-in steel H-piles, for a total of 24 days per training exercise and 96 days during the 1-year IHA effective period (see table 1 in the Federal Register notices of the proposed and final IHA for the initial authorization; 88 FR 15956, March 15, 2023 and 88 FR 28517, May 4, 2023, respectively). Therefore, the current proposed training exercises could occur for up to 10 additional days each training exercise and up to 40 additional days during the proposed 1-year authorization period compared to the initial IHA.

Table 1—Summary of Pile Details and Estimated Production Rates for Pile Installation and Removal During Each Training Exercise for the Initial and Proposed IHAs
Pile size/type/shape | Authorization | Number of sheets/piles | Vibratory installation/ removal duration per pile | Potential impact strikes per pile, if needed | Production rate (piles/day): Installation: Vibratory hammer | Production rate (piles/day): Installation: Impact hammer | Production rate (piles/day): Removal: Vibratory hammer | Production rate (piles/day): Removal: Impact hammer | Days of installation | Days of removal | Buffer days ¹ | Total days per exercise
24-in Steel Sheet | Initial IHA Proposed IHA | 15 30 | 10/20 minutes 10/30 minutes | NA NA | 3 30 | 3 NA | 3 30 | NA NA | 5 1 | 5 1 | 0 12 | 10 14
12-in Timber Pile | Initial IHA Proposed IHA | 10 12 | 20/30 minutes 20/30 minutes | 1,800 1,800 | 2 12 | 2 6 | 2 12 | NA NA | 5 2 | 5 1 | 0 7 | 10 10
14-in H-Beam Pile | Initial IHA Proposed IHA | 4 6 | 20/30 minutes 20/30 minutes | 1,800 1,800 | 2 6 | 2 2 | 2 6 | NA NA | 2 3 | 2 1 | 0 6 | 4 10
Totals for the Initial IHA | 7.17 hours/12 hours |  |  |  |  | NA | 12 | 12 | 0 | 24
Totals for the Proposed IHA | 11 hours/24 hours |  |  |  |  | NA | 6 | 3 | 25 | 34
¹ Buffer days are included in the proposed IHA to allow for unanticipated variation in production rates and to account for any training that is slowed or delayed due to the need to meet specific training or mitigation requirements; buffer days were not considered in the initial IHA.

The anticipated duration of vibratory removal of steel sheet piles has also changed from the initial IHA. The initial IHA estimated that this activity would take 20 minutes, whereas the Navy now estimates that this activity could take 30 minutes (table 1). This increase in duration, in addition to the increased number of piles to be installed and removed each training exercise, increases both the daily duration and the total duration of active pile driving anticipated to occur. The initial IHA considered that vibratory installation and removal of all piles could take 7.17 hours and 12 hours, respectively, during each training exercise; whereas the current request anticipates that vibratory installation and removal of all piles could take 11 hours and 24 hours, respectively, during each training exercise (table 1). These changes represent a 100-percent increase in the total estimated amount of time required each training exercise for vibratory installation and removal of piles. The number of strikes estimated to be required per pile during impact hammer installation is the same as that estimated in the initial IHA; however, given more piles are anticipated to be installed, it is also anticipated that the total amount of time for impact pile driving would also increase.

This change in the total number of piles and the increased daily durations of pile durations would result in slightly larger Level A harassment zones and shutdown zones due to increased durations of pile driving activities. In addition, the additional days of estimated activity would result in a higher amount of take by Level B harassment to be proposed to be authorized compared to the initial IHA. No other changes have been made to the planned activities. The details of these requested changes are provided in table 1 and in the Estimated Take of Marine Mammals and Proposed Mitigation sections of this notice. The proposed IHA, if authorized, would be effective for 1 year from the date of issuance.

Description of Marine Mammals

A description of the marine mammals in the area of the activities for which authorization of take is proposed here, including information on abundance, status, distribution, and hearing, may be found in the Federal Register notice of the proposed IHA (88 FR 15956, March 15, 2023) for the initial authorization. NMFS has reviewed the monitoring data from the initial IHA, 2023 draft Stock Assessment Reports, information on relevant Unusual Mortality Events, and other scientific literature, and determined there is no new information that affects which species or stocks have the potential to be affected or the pertinent information in the Description of the Marine Mammals in the Area of Specified Activities contained in the supporting documents for the initial IHA.

Marine Mammal Hearing

Hearing is the most important sensory modality for marine mammals underwater, and exposure to anthropogenic sound can have deleterious effects. To appropriately assess the potential effects of exposure to sound, it is necessary to understand the frequency ranges marine mammals are able to hear. Not all marine mammal species have equal hearing capabilities (e.g., Richardson et al., 1995; Wartzok and Ketten, 1999; Au and Hastings, 2008). To reflect this, Southall et al. (2007, 2019) recommended that marine mammals be divided into hearing groups based on directly measured (behavioral or auditory evoked potential techniques) or estimated hearing ranges (behavioral response data, anatomical modeling, etc.). Note that no direct measurements of hearing ability have been successfully completed for mysticetes (i.e., low-frequency cetaceans). Subsequently, NMFS (2018, 2024) described generalized hearing ranges for these marine mammal hearing groups. Generalized hearing ranges were chosen based on the approximately 65-decibel (dB) threshold from the normalized composite audiograms, with the exception for lower limits for low-frequency cetaceans where the lower bound was deemed to be biologically implausible and the lower bound from Southall et al. (2007) retained.

On May 3, 2024, NMFS published and solicited public comment on its draft Updated Technical Guidance (89 FR 36762), which includes updated hearing ranges and names for the marine mammal hearing groups and is intended to replace the 2018 Technical Guidance once finalized. The public comment period ended on June 17th, 2024. Because NMFS may finalize the Guidance prior to taking a final agency action on this proposed IHA, we considered both the 2018 and 2024 Technical Guidance in our effects and estimated take analysis below. Marine mammal hearing groups and their associated hearing ranges from NMFS (2018) and NMFS (2024) are provided in tables 2 and 3. In the draft Updated Technical Guidance, mid-frequency cetaceans have been re-classified as high-frequency cetaceans, and high-frequency cetaceans have been updated to very-high-frequency (VHF) cetaceans. Additionally, the draft Updated Technical Guidance includes in-air data for phocid (PA) and otariid (OA) pinnipeds.

Table 2—Marine Mammal Hearing Groups
[NMFS, 2018]
Hearing group | Generalized hearing range *
Low-frequency (LF) cetaceans (baleen whales) | 7 Hz to 35 kHz.
Mid-frequency (MF) cetaceans (dolphins, toothed whales, beaked whales, bottlenose whales) | 150 Hz to 160 kHz.
High-frequency (HF) cetaceans (true porpoises, Kogia, river dolphins, Cephalorhynchid, Lagenorhynchus cruciger & L. australis) | 275 Hz to 160 kHz.
Phocid pinnipeds (PW) (underwater) (true seals) | 50 Hz to 86 kHz.
Otariid pinnipeds (OW) (underwater) (sea lions and fur seals) | 60 Hz to 39 kHz.
* Represents the generalized hearing range for the entire group as a composite (i.e., all species within the group), where individual species' hearing ranges are typically not as broad. Generalized hearing range chosen based on ~65-dB threshold from normalized composite audiogram, with the exception for lower limits for LF cetaceans (Southall et al., 2007) and PW pinniped (approximation).

Table 3—Marine Mammal Hearing Groups
[NMFS, 2024]
Hearing group | Generalized hearing range *
Underwater:
Low-frequency (LF) cetaceans (baleen whales) | 7 Hz to 36 kHz.
High-frequency (HF) cetaceans (dolphins, toothed whales, beaked whales, bottlenose whales) | 150 Hz to 160 kHz.
Very High-frequency (VHF) cetaceans (true porpoises, Kogia, river dolphins, Cephalorhynchid, Lagenorhynchus cruciger & L. australis) | 200 Hz to 165 kHz.
Phocid pinnipeds (PW) (underwater) (true seals) | 40 Hz to 90 kHz.
Otariid pinnipeds (OW) (underwater) (sea lions and fur seals) | 60 Hz to 68 kHz.
In-Air:
Phocid pinnipeds (PA) (true seals) | 42 Hz to 52 kHz.
Otariid pinnipeds (OA) (sea lions and fur seals) | 90 Hz to 40 kHz.
* Represents the generalized hearing range for the entire group as a composite (i.e., all species within the group), where individual species' hearing ranges may not be as broad. Generalized hearing range chosen based on ~65-dB threshold from composite audiogram, previous analysis in NMFS 2018, and/or data from Southall et al., 2007; Southall et al., 2019. Additionally, animals are able to detect very loud sounds above and below that “generalized” hearing range

Potential Effects of Specified Activities on Marine Mammals and Their Habitat

A description of the potential effects of the specified activity on marine mammals and their habitat for the activities for which an authorization of incidental take is proposed here may be found in the Federal Register notice of the proposed IHA (88 FR 15956, March 15, 2023) for the initial authorization. NMFS has reviewed the monitoring data from the initial IHA, recent draft Stock Assessment Reports, information on relevant Unusual Mortality Events, and other scientific literature, and determined that there is no new information that affects our initial analysis of impacts on marine mammals and their habitat.

Estimated Take of Marine Mammals

A detailed description of the methods and inputs used to estimate take for the specified activity are found in the Federal Register notices of the proposed and final IHAs for the initial authorization (88 FR 15956, March 15, 2023 and 88 FR 28517, May 4, 2023, respectively). Specifically, the source levels and marine mammal occurrence data applicable to this authorization remain unchanged from the previously issued IHA, as do the thresholds and methodology for estimating take by Level B harassment.

The Navy, however, anticipates that the number of piles that could be installed or removed per day would increase compared to the initial IHA so that personnel can meet new training requirements during the proposed IHA authorization period (see table 1). In addition, the Navy anticipates that the vibratory removal of 24-in steel sheets could take 30 minutes, whereas the initial IHA considered this activity could take 20 minutes. As described in the Federal Register notices of the proposed and final IHAs for the initial authorization (88 FR 15956, March 15, 2023, and 88 FR 28517, May 4, 2023, respectively) for the initial authorization, the ensonified area associated with Level A harassment accounts for both source level of the specified activity and duration of that activity. Increasing the number of piles to be installed/removed per day, as well as the anticipated duration of vibratory removal of steel sheet piles, increases the total estimated daily duration of the activity, and thus, the extent of the Level A harassment zones. Note; the estimated distances to the Level B harassment isopleths would not increase because activity duration is not considered in their calculation.

Further, to ensure we have considered an adequate estimate of take by Level A harassment and in order to support consideration of the best available science, we have conducted basic comparative calculations using both the existing Technical Guidance (NMFS, 2018) and the draft Updated Technical Guidance (NMFS, 2024) for the purposes of understanding the number of potential takes by Level A harassment. The thresholds used to assess Level A harassment from each Guidance are provided in tables 4 and 5, respectively. The references, analysis, and methodology used in the development of these thresholds are described in NMFS' 2018 Technical Guidance and NMFS' 2024 draft Updated Technical Guidance, respectively, both of which may be accessed at: https://www.fisheries.noaa.gov/national/marine-mammal-protection/marine-mammal-acoustic-technical-guidance.

The Navy's proposed activity includes the use of impulsive (impact pile driving) and non-impulsive (vibratory driving) sources.

Table 4—NMFS' 2018 Thresholds Identifying the Onset of Permanent Threshold Shift (PTS)
Hearing group | PTS onset acoustic thresholds ¹ (received level): Impulsive | PTS onset acoustic thresholds ¹ (received level): Non-impulsive
Low-Frequency (LF) Cetaceans | Cell 1: Lpk,flat: 219 dB; LE,LF,24h: 183 dB | Cell 2: LE,LF,24h: 199 dB.
Mid-Frequency (MF) Cetaceans | Cell 3: Lpk,flat: 230 dB; LE,MF,24h: 185 dB | Cell 4: LE,MF,24h: 198 dB.
High-Frequency (HF) Cetaceans | Cell 5: Lpk,flat: 202 dB; LE,HF,24h: 155 dB | Cell 6: LE,HF,24h: 173 dB.
Phocid Pinnipeds (PW) (Underwater) | Cell 7: Lpk,flat: 218 dB; LE,PW,24h: 185 dB | Cell 8: LE,PW,24h: 201 dB.
Otariid Pinnipeds (OW) (Underwater) | Cell 9: Lpk,flat: 232 dB; LE,OW,24h: 203 dB | Cell 10: LE,OW,24h: 219 dB.
¹ Dual metric acoustic thresholds for impulsive sounds: Use whichever results in the largest isopleth for calculating PTS onset. If a non-impulsive sound has the potential of exceeding the peak sound pressure level thresholds associated with impulsive sounds, these thresholds should also be considered.
Note: Peak sound pressure (Lpk) has a reference value of 1 µPa, and cumulative sound exposure level (LE) has a reference value of 1µPa²s. In this table, thresholds are abbreviated to reflect American National Standards Institute standards (ANSI, 2013). However, peak sound pressure is defined by ANSI as incorporating frequency weighting, which is not the intent for NMFS' 2018 Technical Guidance. Hence, the subscript “flat” is being included to indicate peak sound pressure should be flat weighted or unweighted within the generalized hearing range. The subscript associated with cumulative sound exposure level thresholds indicates the designated marine mammal auditory weighting function (LF, MF, and HF cetaceans, and PW and OW pinnipeds) and that the recommended accumulation period is 24 hours. The cumulative sound exposure level thresholds could be exceeded in a multitude of ways (i.e., varying exposure levels and durations, duty cycle). When possible, it is valuable for action proponents to indicate the conditions under which these acoustic thresholds will be exceeded.

Table 5—NMFS' 2024 Thresholds Identifying the Onset of Auditory Injury (AUD INJ)
Hearing group | AUD INJ acoustic thresholds ¹ (received level): Impulsive | AUD INJ acoustic thresholds ¹ (received level): Non-impulsive
Underwater:
Low-Frequency (LF) Cetaceans | Cell 1: Lp, 0-pk,flat: 222 dB; LE,p, LF,24h: 183 dB | Cell 2: LE,p, LF,24h: 197 dB.
High-Frequency (HF) Cetaceans | Cell 3: Lp,0-pk,flat: 230 dB; LE,p, HF,24h: 193 dB | Cell 4: LE,p, HF,24h: 201 dB.
Very High-Frequency (VHF) Cetaceans | Cell 5: Lp,0-pk,flat: 202 dB; LE,p,VHF,24h: 159 dB | Cell 6: LE,p, VHF,24h: 181 dB.
Phocid Pinnipeds (PW) (Underwater) | Cell 7: Lp,0-pk,flat: 223 dB; LE,p,PW,24h: 183 dB | Cell 8: LE,p,PW,24h: 195 dB.
Otariid Pinnipeds (OW) (Underwater) | Cell 9: Lp,0-pk,flat: 230 dB; LE,p,OW,24h: 185 dB | Cell 10: LE,p,OW,24h: 199 dB.
In-Air:
Phocid Pinnipeds (PA) (In-Air) | Cell 11: Lp,0-pk.flat: 162 dB; LE,p,PA,24h: 140 dB | Cell 12: LE,p,PA,24h: 154 dB.
Otariid Pinnipeds (OA) (In-Air) | Cell 13: Lp,0-pk,flat: 177 dB; LE,p,OA,24h: 163 dB | Cell 14: LE,p,OA,24h: 177 dB.
¹ Dual metric acoustic thresholds for impulsive sounds: Use whichever results in the largest isopleth for calculating AUD INJ onset. If a non-impulsive sound has the potential of exceeding the peak sound pressure level thresholds associated with impulsive sounds, these thresholds should also be considered.
Note: Peak sound pressure (Lpk) has a reference value of 1 µPa, and cumulative sound exposure level (LE) has a reference value of 1µPa²s. In this table, thresholds are abbreviated to reflect American National Standards Institute standards (ANSI, 2013). However, peak sound pressure is defined by ANSI as incorporating frequency weighting, which is not the intent for NMFS' 2018 Technical Guidance. Hence, the subscript “flat” is being included to indicate peak sound pressure should be flat weighted or unweighted within the generalized hearing range. The subscript associated with cumulative sound exposure level thresholds indicates the designated marine mammal auditory weighting function (LF, MF, and HF cetaceans, and PW and OW pinnipeds) and that the recommended accumulation period is 24 hours. The cumulative sound exposure level thresholds could be exceeded in a multitude of ways (i.e., varying exposure levels and durations, duty cycle). When possible, it is valuable for action proponents to indicate the conditions under which these acoustic thresholds will be exceeded.

NMFS developed optional User Spreadsheet tools to accompany both the 2018 Technical guidance and the 2024 draft Technical Guidance that can be used to relatively simply predict an isopleth distance for use in conjunction with marine mammal density or occurrence to help predict potential takes. We note that because of some of the assumptions included in the methods underlying these optional tools, we anticipate that the resulting isopleth estimates are typically going to be overestimates of some degree, which may result in an overestimate of potential take by Level A harassment. However, these optional tools offers the best way to estimate isopleth distances when more sophisticated modeling methods are not available or practical. For stationary sources, such as vibratory and impact pile driving, the optional User Spreadsheet tools predict the distance at which, if a marine mammal remained at that distance for the duration of the activity, it will be expected to incur PTS. Inputs used in the optional User Spreadsheet tools for the proposed IHA based on the Navy's request are reported in table 6. The isopleths calculated for the proposed IHA based on NMFS' 2018 Technical guidance and NMFS' 2024 draft Technical guidance, as well as those considered in the initial IHA (based on NMFS' 2018 Technical guidance), are reported in table 7.

Table 6—NMFS User Spreadsheet Inputs
| Vibratory pile driving: 16-Inch timber piles | Vibratory pile driving: 14-Inch steel H beam | Vibratory pile driving: 24-Inch steel sheet | Impact pile driving: 16-Inch timber piles | Impact pile driving: 14-Inch steel H beam
Spreadsheet Tab Used | A.1) Non-Impul, Stat, Cont | A.1) Non-Impul, Stat, Cont | A.1) Non-Impul, Stat, Cont | E.1) Impact pile driving | E.1) Impact pile driving.
Source Level (SPL) | 162 dB RMS | 147 dB RMS | 159 dB RMS | 160 dB SEL | 170 dB SEL.
Transmission Loss Coefficient | 15 | 15 | 15 | 15 | 15.
Weighting Factor Adjustment (kHz) | 2.5 | 2.5 | 2.5 | 2 | 2.
Time to install/remove single pile (minutes) | 30 | 30 | 30 |  |
Number of strikes per pile |  |  |  | 1,800 | 1,800.
Piles to install/remove per day | 12 | 6 | 30 | 6 | 2.
Distance of sound pressure level measurement (meters) | 10 | 10 | 11 | 10 | 10.

Table 7—Calculated Distances and Areas to the Estimated Level A (Based on NMFS' 2018 Technical Guidance and NMFS' Proposed 2024 Update to the 2018 Technical Guidance) and Level B Harassment Thresholds by Pile Type and Pile Driving Method for the Initial and Proposed IHAs
Activity | Pile description | Authorization period | Piles per day | Level A harassment distances (m) (2018 Technical Guidance/2024 Proposed Update to the 2018 Technical Guidance) ¹: PW | Level A harassment distances (m) (2018 Technical Guidance/2024 Proposed Update to the 2018 Technical Guidance) ¹: OW | Level A harassment areas (km²) for all hearing groups ² | Level B harassment distance (m) all hearing groups | Level B harassment areas (km²) for all hearing groups ²
Vibratory Installation/Removal | 16-inch Timber Piles | Initial IHA Proposed IHA | 3 12 | 4.8 16.0/45.7 | 0.3 1.1/15.4 | <0.1 <0.1 | ³ 6,310 ³ 6,310 | <0.3 <0.3
| 14-inch Steel H Beam | Initial IHA Proposed IHA | 2 6 | 0.5 1.0/2.9 | 0 0.1/1.0 | <0.1 <0.1 | 631 631 | <0.3 <0.3
| 24-inch Steel Sheet | Initial IHA Proposed IHA | 3 30 | 3.4 ⁴ 20.4/⁴ 58.4 | 0.2 ⁴ 1.4/⁴ 19.7 | <0.1 <0.1 | ³ 4,379 ³ 4,379 | <0.3 <0.3
Impact Installation | 16-inch Timber Piles | Initial IHA Proposed IHA | 3 6 | 36.8 76.5/126.5 | 2.7 5.6/47.1 | <0.1 <0.1 | 47 47 | <0.1 <0.1
| 14-inch Steel H-Beam | Initial IHA Proposed IHA | 2 2 | 170.6 170.6/282.2 | 12.4 12.4/105.2 | <0.1 <0.1 | 216 216 | <0.1 <0.1
¹ The initial IHA only calculated distances to the Level A harassment thresholds based on the 2018 Technical Guidance, whereas the proposed IHA considers calculated distances to the Level A harassment thresholds based on both the 2018 Technical Guidance and the 2024 Proposed Update to the 2018 Technical Guidance.
² Harassment areas have been truncated where appropriate to account for land masses.
³ The maximum harassment distances are approximately 790 m for Wharf 4 South, 795 m for Wharf 4 East, and 655 m for Wharf D due to the presence of land masses in the project area, which truncate sound transmission.
⁴ The Navy made a typographical error made in their calculation of the distance to the Level A harassment thresholds. Specifically they used a sound pressure level measurement distance of 10 m when the correct measurement distance is 11 m. Therefore, the distances provided here are slightly larger than the distances provided in their IHA application.

The stocks taken, methods of take, and types of take remain unchanged from the initial authorization. Here, we estimate the proposed amount of taking by Level B harassment for both species using the same method and rates of daily occurrence for California sea lions (342 individuals) and harbor seals (21 individuals) used in the initial IHA, applied across the proposed 136 days of activity, resulting in 46,512 and 2,856 instances of take by Level B harassment, respectively (table 8). While the estimated distances to the Level A thresholds and the shutdown zones are larger here than in the initial IHA (see table 7 and the Proposed Mitigation section of this notice), and in some cases larger than the estimated distances to the Level B thresholds (see distances for impact driving in table 7), they are still relatively small (i.e., less than 171 m or 283 m based on NMFS' 2018 Technical Guidance and NMFS' 2024 draft Technical Guidance, respectively) and it is unlikely that an individual would remain in these zones long enough to incur PTS. Further, we anticipate that the Navy will be able to effectively shut down operations as necessary to avoid any take by Level A harassment. Therefore, take by Level A harassment is not proposed to be authorized. During the initial authorization period, the Navy detected 40 California sea lions and 4 harbor seals within the estimated Level B harassment zone.

Table 8—Amount of Authorized Take in the Initial IHA and Proposed Take as a Percentage of Stock Abundance, by Stock and Harassment Type
Species | Stock | Authorization | Proposed amount of taking: Level A | Proposed amount of taking: Level B | Proposed amount of taking: Total | Percent of stock
California Sea Lion | U.S | Initial IHA Proposed IHA | 0 0 | 36,960 46,512 | 36,960 46,512 | 14.30 18.05
Harbor Seal | California | Initial IHA Proposed IHA | 0 0 | 2,016 2,856 | 2,016 2,856 | 6.51 9.22

Description of Proposed Mitigation, Monitoring and Reporting Measures

The proposed mitigation, monitoring, and reporting measures included as requirements in this authorization are identical to those included in the Federal Register notice announcing the issuance of the initial IHA (88 FR 28517, May 4, 2023), except for the size of the respective shutdown zones as discussed below, and the discussion of the least practicable adverse impact included in that document remains accurate. The following measures are proposed for this IHA:

• The Navy would conduct briefings between supervisors and trainees, the marine mammal monitoring team, and Navy staff prior to the start of all in-water pile driving activity, and when new personnel join the work, to ensure that responsibilities, communication procedures, marine mammal monitoring protocols, and operational procedures are clearly understood.

• During all in-water work other than pile driving (e.g., pile placement, boat use), in order to prevent injury from physical interaction with construction equipment, a shutdown zone of 10 m would be implemented. If a marine mammal comes within 10 m, operations would cease and vessels would reduce speed to the minimum level required to maintain steerage and safe working conditions. If human safety is at risk, the in-water activity would be allowed to continue until it is safe to stop.

• The Navy would establish shutdown zones for all for in-water pile driving activities. The purpose of a shutdown zone is generally to define an area within which shutdown of activity will occur upon sighting of a marine mammal (or in anticipation of an animal entering the defined area). Shutdown zones would vary based on the type of pile installation/removal activity, but are proposed to be larger than the calculated Level A harassment isopleths shown in table 9. The proposed shutdown zones have increased slightly from what was required in the initial IHA based on the Navy's request to increase the number of piles that may be installed and or removed each day, and in the case of 24-in steel sheets, the longer duration estimated to remove piles with a vibratory hammer (see table 1). The placement of lookouts during all pile driving activities (described in detail in below) would ensure that the entirety of all shutdown zones and Level A harassment zones are visible during pile installation and removal.

Table 9—Proposed Shutdown Zones During In-Water Pile Driving Activities for the Initial and Proposed IHAs
Activity | Pile description | Authorization period | Distance (m) ¹: PW | Distance (m) ¹: OW
Vibratory Installation/Removal | 16-inch Timber Piles | Initial IHA Proposed IHA | 15 20/50 | 15 >20/50
| 14-inch Steel H Beam | Initial IHA Proposed IHA | 15 20/20 | 15 20/20
| 24-inch Steel Sheet | Initial IHA Proposed IHA | 15 ² 30/60 | 15 ² 30/60
Impact Installation | 16-inch Timber Piles | Initial IHA Proposed IHA | 40 80/130 | 40 80/130
| 14-inch Steel H-Beam | Initial IHA Proposed IHA | 175 175/290 | 175 175/290
¹ Shutdown zones for the proposed IHA consider calculated distances to the Level A harassment thresholds based on both the 2018 Technical Guidance and the 2024 Proposed Update to the 2018 Technical Guidance, whereas shutdown zones for the initial IHA only considered calculated distances to the Level A harassment thresholds based on the 2018 Technical Guidance. Here, we are proposing the Navy implement the larger distance as the shutdown zones, which consider the 2024 Proposed Update to the 2018 Technical Guidance.
² The Navy considered a shutdown zone of 20 m due to a typographical error made in their calculation of the distance to the Level A harassment thresholds. Specifically they used a sound pressure level measurement distance of 10 m when the correct measurement distance is 11 m.

• The Navy would delay or shutdown all in-water pile driving activities should an animal approach or enter the appropriate shutdown zone. The Navy could resume in-water pile driving activities after one of the following conditions has been met: (1) the animal is observed exiting the shutdown zone; (2) the animal is thought to have exited the shutdown zone based on a determination of its course, speed, and movement relative to the pile driving location; or (3) the shutdown zone has been clear from any additional sightings for 15 minutes.

• The Navy would employ lookouts trained in marine mammal identification and behaviors to monitor marine mammal presence in the action area. Requirements for numbers and locations of observers will be based on hammer type, pile material, and Seabees training location as described in section 5 of the proposed IHA. Lookouts would track marine mammals observed anywhere within their visual range relative to in-water training activities, and estimate the amount of time a marine mammal spends within the Level A or Level B harassment zones while pile driving activities are underway. The Navy would monitor the project area, including the Level B harassment zones, to the maximum extent possible based on the required number of lookouts, required monitoring locations, and environmental conditions. For all pile driving and removal activities, at least one lookout would be used.

• The placement of the lookouts during all pile driving and removal activities would ensure that the entire applicable shutdown zones are visible during all in-water pile installation and removal. One observer would be placed in a position to implement shutdown/delay procedures, when applicable, by notifying the hammer operator of a need for a shutdown of pile driving or removal.

• Prior to the start of pile driving or removal, the shutdown zone(s) would be monitored for a minimum of 30 minutes to ensure that they are clear of marine mammals (i.e., pre-clearance monitoring). Pile driving would only commence once observers have declared the shutdown zone(s) are clear of marine mammals. Monitoring would also take place for 30 minutes post-completion of pile driving.

• If in-water work ceases for more than 30 minutes, the Navy would conduct pre-clearance monitoring of both the Level B harassment zone and shutdown zone.

• Pre-start clearance monitoring would be conducted during periods of visibility sufficient for the lead lookout to determine that the shutdown zones indicated in table 5 are clear of marine mammals. Pile driving could commence following 30 minutes of observation when the determination is made that the shutdown zones are clear of marine mammals.

• The Navy would use soft start techniques when impact pile driving. Soft start requires contractors to provide an initial set of three strikes at reduced energy, followed by a 30-second waiting period, then two subsequent reduced energy strike sets. A soft start would be implemented at the start of each day's impact pile driving and at any time following cessation of impact pile driving for a period of 30 minutes or longer. Soft starts would not be used for vibratory pile installation and removal. Lookouts would begin observing for marine mammals 30 minutes before “soft start” or in-water pile installation or removal begins.

• For any marine mammal species for which take by Level B harassment has not been requested or authorized, in-water pile installation/removal would shut down immediately when the animals are sighted.

• If take by Level B harassment reaches the authorized limit for an authorized species, pile installation would be stopped as these species approach the Level B harassment zone to avoid additional take of them.

• Monitoring would be conducted by qualified lookouts with support from Navy biologists, in accordance with the following:

• Navy biologists would train and certify lookouts in accordance with the mitigation, monitoring and reporting requirements of the issued IHA;

• All lookouts would maintain contact via either handheld communication devices or flags to signal sightings and shutdowns;

• Lookouts would be placed at vantage points to monitor for marine mammals and implement shutdown/delay procedures when applicable by calling for the shutdown to the hammer operator;

• The Lead lookout would be located within auditory range of the pile driving team and would have primary responsibility for calling activity shutdowns;

• Lookouts would use a hand-held global positioning device (GPS) device, rangefinder, visual reference points, or marker buoy to verify the required monitoring distance from the project site;

• Monitoring would occur in all-weather until training has concluded for the day;

• Lookouts would scan the waters within the Level A harassment and Level B harassment zones using binoculars (10x42 or similar) and or the naked eye and make visual observations of marine mammals present; and

• Lookouts would record all observations of marine mammals as described in the section 5 of the IHA, regardless of distance from the pile being driven. Lookouts would document any behavioral reactions in concert with distance from piles being driven or removed.

• Lookouts would have the following additional qualifications:

• Visual acuity in both eyes (correction is permissible) sufficient for discernment of moving targets at the water's surface with ability to estimate target size and distance; use of binoculars may be necessary to correctly identify the target;

• Sufficient training, orientation, or experience with the construction operation to provide for personal safety during observations;

• Writing skills sufficient to prepare a report of observations including but not limited to the number and species of marine mammals observed; dates and times when in-water construction activities were conducted; dates, times, and reason for implementation of mitigation (or why mitigation was not implemented when required); and marine mammal behavior; and

• Ability to communicate orally, by radio or in person, with project personnel to provide real-time information on marine mammals observed in the area as necessary.

The Navy would submit a draft marine mammal monitoring report to NMFS within 90 days after the completion of pile driving training activities, or 60 days prior to a requested date of issuance of any future IHAs for projects at the same location, whichever comes first. NMFS would provide comments within 30 days after receiving the draft report, and the Navy would address the comments and submit revisions within 30 days of receipt. If no comments are received from NMFS within 30 days, the draft report would be considered as final.

The draft and final marine mammal monitoring reports would be submitted to PR.ITP.MonitoringReports@noaa.gov and ITP.tyson.moore@noaa.gov. The reports would include an overall description of work completed, a narrative regarding marine mammal sightings, and associated data sheets. Specifically, the reports would include:

• Dates and times (begin and end) of all marine mammal monitoring;

• Training activities occurring during each daily observation period, including the number and type of piles driven or removed and by what method (i.e., impact or vibratory) and the total equipment duration for vibratory installation and removal for each pile or estimated total number of strikes for each pile for impact driving;

• Lookout locations during marine mammal monitoring;

• Environmental conditions during monitoring periods (at beginning and end of lookout shift and whenever conditions change significantly), including Beaufort sea state and any other relevant weather conditions including cloud cover, fog, sun glare, and overall visibility to the horizon, and estimated observable distance;

• Description of any deviation from initial proposal in pile numbers, pile types, average driving times, etc.;

• Brief description of any impediments to obtaining reliable observations during training periods; and

• Description of any impediments to complying with the aforementioned mitigation measures.

Lookouts would record all incidents of marine mammal occurrence in the area in which take is anticipated regardless of distance from activity, and would98 document any behavioral reactions in concert with distance from piles being driven or removed. Specifically, lookouts would record the following:

• Name of lookout who sighted the animal(s) and lookout location and activity at time of sighting;

• Time of sighting;

• Identification of the animal(s) (e.g., genus/species, lowest possible taxonomic level, or unidentified), lookout confidence in identification, and the composition of the group if there is a mix of species;

• Distance and bearing of each marine mammal observed relative to the pile being driven for each sighting (if pile driving was occurring at time of sighting);

• Estimated number of animals (min/max/best estimate);

• Estimated number of animals by cohort (adults, juveniles, neonates, group composition, sex class, etc.);

• Animal's closest point of approach and estimated time spent within the harassment zone;

• Description of any marine mammal behavioral observations (e.g., observed behaviors such as feeding or traveling), including an assessment of behavioral responses thought to have resulted from the activity (e.g., no response or changes in behavioral state such as ceasing feeding, changing direction, flushing, or breaching);

• Number of marine mammals detected within the harassment zones and shutdown zones, by species; and

• Detailed information about any implementation of any mitigation triggered (e.g., shutdowns and delays), a description of specific actions that ensued, and resulting changes in behavior of the animal(s), if any.

Preliminary Determinations

The proposed IHA consists of the same activities analyzed through the initial authorization. The proposed IHA would authorize the incidental take by Level B harassment of California sea lions and harbor seals to up to four 34-day pile driving training exercises. This activity was originally authorized under the initial IHA, but the Navy only completed one, 11-day, exercise. The Navy is requesting an IHA so that it can conduct an additional four training exercises during the proposed authorization period. However, due to emergent training requirements and tempo, the Navy is requesting, in some instances, to install and remove additional piles over additional days during the training exercises than what was analyzed in the initial IHA (i.e., 136 total days considered in the proposed IHA versus 96 days considered in the initial IHA), which results in an increase in the number of takes by Level B harassment proposed for authorization for harbor seals and sea lions (see table 8). In addition, on May 3, 2024 NMFS published and solicited public comment on its draft Updated Technical Guidance (89 FR 36762), which includes updated hearing ranges and names for marine mammal hearing groups as well as updated thresholds and weighting functions to inform auditory injury estimates (i.e., for Level A harassment). These changes result in slightly larger Level A harassment zones and shutdown zones due to increased durations of pile driving activities. No other changes have been made to the planned activities.

In analyzing the effects of the activities for the initial IHA, NMFS determined that the Navy's activities would have a negligible impact on the affected species or stocks. There is no new information that affects NMFS' determinations supporting issuance of the initial IHA or this proposed IHA. While the takes by Level B harassment proposed for authorization are greater than the takes by Level B harassment authorized in the initial IHA, the anticipated impacts of the Navy's training exercises on marine mammals is the same as what was considered in the initial IHA (e.g., temporary modifications in behaviors or Temporary Threshold Shifts (TTS) that would not result in fitness impacts to any individuals). In addition, the specified activity and ensonification areas are still very small relative to the overall habitat ranges of all species and do not include habitat areas of special significance (Biologically Important Areas or ESA-designated critical habitat). Lastly, the intensity of anticipated takes by Level B harassment is relatively low for all stocks and would not be of a duration or intensity expected to result in impacts on reproduction or survival. The mitigation measures and monitoring and reporting requirements as described above are identical to the initial IHA, except for the requirement of slightly larger shutdown zones.

Based on the information contained here and in the referenced documents, NMFS has preliminarily determined the following: (1) the required mitigation measures will effect the least practicable impact on marine mammal species or stocks and their habitat; (2) the proposed authorized takes will have a negligible impact on the affected marine mammal species or stocks; (3) the proposed authorized takes represent small numbers of marine mammals relative to the affected stock abundances; (4) the Navy's activities will not have an unmitigable adverse impact on taking for subsistence purposes as no relevant subsistence uses of marine mammals are implicated by this action; and (5) appropriate monitoring and reporting requirements are included.

Endangered Species Act

No incidental take of Endangered Species Act (ESA)-listed species is authorized or expected to result from this activity. Therefore, NMFS has determined that formal consultation under section 7 of the ESA is not required for this action.

Proposed Renewal IHA and Request for Public Comment

As a result of these preliminary determinations, NMFS proposes to issue an HA to the Navy for conducting pile driving training exercises in NBVC for 1 year after the date of issuance, provided the previously described mitigation, monitoring, and reporting requirements are incorporated. A draft of the proposed IHA can be found at https://www.fisheries.noaa.gov/action/incidental-take-authorization-us-navy-pile-training-exercises-naval-base-ventura-county-port.

Request for Public Comments

We request comment on our analyses (included in both this document and the referenced documents supporting the initial IHA), the proposed authorization, and any other aspect of this notice of proposed IHA for the Navy's proposed pile driving training exercises at NBVC. We also request comment on the potential for renewal of this proposed IHA as described in the paragraph below. Please include with your comments any supporting data or literature citations to help inform our final decision on the request for MMPA authorization.

On a case-by-case basis, NMFS may issue a one-time, 1-year renewal IHA following notice to the public providing an additional 15 days for public comments when (1) up to another year of identical or nearly identical, or nearly identical, activities as described in the Description of the Proposed Activity and Anticipated Impacts section of this notice is planned or (2) the activities as described in the Description of the Proposed Activity and Anticipated Impacts section of this notice would not be completed by the time the IHA expires and a renewal would allow for completion of the activities beyond that described in the Dates and Duration section of this notice, provided all of the following conditions are met:

• A request for renewal is received no later than 60 days prior to the needed renewal IHA effective date (recognizing that the renewal IHA expiration date cannot extend beyond 1 year from expiration of the initial IHA).

• The request for renewal must include the following:

(1) An explanation that the activities to be conducted under the requested renewal IHA are identical to the activities analyzed under the initial IHA, are a subset of the activities, or include changes so minor (e.g., reduction in pile size) that the changes do not affect the previous analyses, mitigation and monitoring requirements, or take estimates (with the exception of reducing the type or amount of take).

(2) A preliminary monitoring report showing the results of the required monitoring to date and an explanation showing that the monitoring results do not indicate impacts of a scale or nature not previously analyzed or authorized.

• Upon review of the request for renewal, the status of the affected species or stocks, and any other pertinent information, NMFS determines that there are no more than minor changes in the activities, the mitigation and monitoring measures will remain the same and appropriate, and the findings in the initial IHA remain valid.

Dated: October 18, 2024.
Kimberly Damon-Randall,
Director, Office of Protected Resources, National Marine Fisheries Service.

[FR Doc. 2024-24555 Filed 10-22-24; 8:45 am]

BILLING CODE 3510-22-P